DEPARTMENT OF DEFENSE

Department of the Army; Corps of Engineers

Intent To Prepare a Draft Supplemental Environmental Impact Statement for the Larose to Golden Meadow Hurricane Protection Project, Post-Authorization Change Study, in Lafourche Parish, LA

AGENCY: Department of the Army, U.S. Army Corps of Engineers, DoD.

ACTION: Notice of intent.

SUMMARY: The U.S. Army Corps of Engineers (USACE) intends to prepare a supplemental environmental impact statement (SEIS) for the Larose to Golden Meadow Hurricane Protection Project, Post-Authorization Change (PAC) Study. This project was originally authorized in 1965. Construction began in 1972 and is still underway. The PAC Study was initiated to identify and evaluate modifications needed to ensure that completion of project features, designed and constructed before development of the post-Katrina Hurricane and Storm Damage Risk Reduction System (HSDRRS) Design Guidelines, are in compliance with these new guidelines.

The subject SEIS will supplement the original environmental impact statement (EIS) prepared for the project as authorized in 1965. The Statement of Findings for the original EIS was signed on April 4, 1975. An SEIS was subsequently prepared to address proposed modifications to the authorized plan. The Record of Decision for this first SEIS was signed on May 20, 1985.

FOR FURTHER INFORMATION CONTACT: Questions concerning the draft SEIS should be addressed to Charlene Carmack, Rock Island District, Corps of Engineers, CEMVP-PD-C, Clock Tower Building, P.O. Box 2004, Rock Island, IL 61204-2004; telephone (309) 794-5570; fax (309) 794-5157; or be e-mail: Charlene.Carmack@usace.army.mil.

SUPPLEMENTARY INFORMATION:

1. Authority. This SEIS will be the second supplement to the EIS originally prepared for the Larose to Golden Meadow Hurricane Protection Project. This project was authorized by the Flood Control Act of 27 October 1965, House Document No. 184, 89th Congress (Pub. L. 89-298), which authorized the project “hurricane-flood protection at Grand Isle and Vicinity, Louisiana” to provide protection in accordance with the recommendation of the Chief of Engineers in his report entitled “Grand Isle and Vicinity, La.”, and contained in House Document No. 184, Eighty-ninth Congress, 1st Session. The authorized project is a ring levee system with associated control structures that provides hurricane and storm damage risk reduction to communities located along both sides of Bayou Lafourche in Lafourche Parish, Louisiana. The overall levee system is approximately 43 miles long, extending from Larose to a point 2 miles south of Golden Meadow, Louisiana. Roughly 25,000 people live in the communities of Larose, Galliano, Cutoff, and Golden Meadow, which are located within the ring levee system.

2. Alternatives. Alternatives currently being evaluated in the PAC Study include: (1) Stabilize the existing levee using current criteria for still-water elevations, which would complete the project without exceeding the 1965 authorized elevation listed in the Grand Isle, Louisiana, and Vicinity General Design Memorandum (with datum adjustments), and meet the current approved design guidelines excluding the Post-Hurricane Katrina hydrology and hydraulics design guidelines; (2) modify the 1965 design to complete the project providing a level of risk reduction based on the 1965 storm surge design elevations (with datum adjustments) using the current HSDRRS Design Guidelines to include the Post-Hurricane Katrina surge models; (3) complete the existing levee system in general conformance with the previously authorized design. These alternatives will be further formulated and developed during the scoping process and an appropriate range of alternatives will be considered in the new SEIS. These may include alternatives that are in addition to those listed herein.

3. Public Involvement. Public involvement, an essential part of the SEIS process, is integral to assessing the environmental consequences of the proposed action and improving the quality of the environmental decisionmaking. The public includes affected and interested Federal, State, and local agencies, Indian Tribes, concerned citizens, stakeholders, and other interested parties. Public participation in the SEIS process will be strongly encouraged, both formally and informally, to enhance the probability of a more technically accurate, economically feasible, and socially and politically acceptable SEIS. Public involvement will include but is not limited to: information dissemination; identification of problems, needs and opportunities; idea generation; public education; problem solving; providing feedback on proposals; evaluation of alternatives; conflict resolution by consensus; public and scoping notices and meetings; public, stakeholder and advisory groups consultation and meetings; and making the SEIS and supporting information readily available in conveniently located places, such as libraries and on the world wide Web.

4. Scoping. Scoping, an early and open process for identifying the scope of significant issues related to the proposed action and alternatives to be addressed in the SEIS, will be used to: (a) Identify the affected public and agency concerns; (b) facilitate an efficient SEIS preparation process; (c) define the issues and alternatives that will be examined in detail in the SEIS; and (d) save time in the overall process by helping to ensure that the draft SEIS adequately addresses relevant issues. The USACE anticipates conducting a public scoping meeting for this SEIS in October 2011. The exact date, time, and location of this meeting, which will be held in the general project area, have not yet been determined. This information will be publicized once the meeting arrangements have been made.

5. Coordination. The USACE and the U.S. Fish and Wildlife Service (USFWS) have formally committed to work together to conserve, protect, and restore fish and wildlife resources while ensuring environmental sustainability of our Nation's water resources under the January 22, 2003, Partnership Agreement for Water Resources and Fish and Wildlife. The USFWS will provide a Fish and Wildlife Coordination Act Report. Coordination will be maintained with the USFWS and the National Marine Fisheries Service (NMFS) regarding threatened and endangered species under their respective jurisdictional responsibilities. Coordination will be maintained with the NMFS regarding essential fish habitat. Coordination will be maintained with the U.S. Coast Guard (USCG) regarding navigation issues. In addition, USFWS, NMFS, USCG and the U.S. Geological Survey will be invited to be cooperating agencies. Coordination will be maintained with the Natural Resources Conservation Service regarding prime and unique farmlands. The U.S. Department of Agriculture will be consulted regarding the “Swampbuster” provisions of the Food Security Act. Coordination will be maintained with the U.S. Environmental Protection Agency concerning compliance with Executive Order 12898, “Federal Action to Address Environmental Justice in Minority Populations and Low-Income Populations.” Coordination will be maintained with the Advisory Council on Historic Preservation and the State Historic Preservation Officer. The Federal Aviation Administration will be consulted regarding potential impacts to local airports. The Louisiana Department of Natural Resources will be consulted regarding consistency with the Coastal Zone Management Act. The Louisiana Department of Environmental Quality will be consulted concerning potential impacts to water quality. The Louisiana Department of Wildlife and Fisheries will be consulted concerning potential impacts to Natural and Scenic Rivers and to fish and wildlife resources.

5. Availability of Draft SEIS. The earliest that the draft SEIS will be available for public review would be in the fall of 2012. The draft SEIS or a notice of availability will be distributed to affected Federal, State, and local agencies, Indian Tribes, and other interested parties.

Dated: August 11, 2011.
Edward R. Fleming,
Colonel, U.S. Army District Commander.

[FR Doc. 2011-21881 Filed 8-25-11; 8:45 am]

BILLING CODE 3720-58-P